FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. chapter 409 and 46 CFR part 515).

Persons knowing of any reason why the following applicants should not receive a license are requested to contact the Office of Transportation Intermediaries, Federal Maritime Commission, Washington, DC 20573.

Non-Vessel Operating Common Carrier Ocean Transportation Intermediary Applicants

HTL Logistics India Private Limited, 315 & 316 2nd Floor Oxford Towers, 139 Kodihalli, Airport Road, Bangalore 560008, India, Officers: Rakesh Suri, Director, (Qualifying Individual), Ahamed R. Farook, Chairman.

Ports Express (USA) Inc. dba Ports Express (Shanghai) Limited, PortsContainers Limited, 419 N. Oak Street, Inglewood, CA 90302, Officer: Alex T. Chan, President (Qualifying Individual).

MGL (USA) Inc., 20955 Pathfinder Road, Ste. 350, Diamond Bar, CA 91765, Officers: Helen X. Chin, Manager (Qualifying Individual), Winna Leung, President.

Non-Vessel Operating Common Carrier and Ocean Freight Forwarder Transportation Intermediary Applicants

Clutch Global Logistics, 180 Champion Way, Northlake, IL 60164, Officer: LJ Stevenson, Vice President (Qualifying Individual).

Euroworld Transport System America, Inc., 735 N. Water Street, Ste. 936, Milwaukee, WI 53202, Officer: Uros Pejanovic, Vice President (Qualifying Individual).

Hemarc Forwarders, Inc., 8201 NW 64 Street, Unit 2, Miami, FL 33166, Officers: Hedda Bronquete, Vice President, (Qualifying Individual). Marcelo Bronquete, President.

CJ GLS America, Inc., 404 Foxrun Ave., Opelika, AL 36801, Officer: Joon Park, CFO (Qualifying Individual).

IWC Shipping Corp., 772 65th Street, Ste. 2, Brooklyn, NY 11220, Officer: Hassan Hamze, President (Qualifying Individual).

Goshen Services Group, LLC dba Goshen Express, 6525 Belcrest Road, Ste. 519, Hyattsville, MD 20782, Officers: Franklin C. Ojukwu, President (Qualifying Individual), April C. Ibeji, Vice President.

InterChez Global Services, Inc., 3924 Clock Pointe Trail, Ste. 10, Stow, OH 44224, Officers: Rebecca L. Smith, General Manager, (Qualifying Individual) Mark A. Chesnes, President.

3PL Express Freight, Inc., 3236 San Anseline Ave., Long Beach, CA 90808, Officers: Maria C. Vidaurre, CFO (Qualifying Individual), Kari A. Stupke, President.

Genesis Forwarding Group USA, Inc. dba Genesis Container Lines, 800 Hindry Ave., Units B-D, Inglewood, CA 90301, Officer: Karen L. Sedor, Vice President (Qualifying Individual).

Global Links Express, Inc., 167-10 S. Conduit Ave., Ste. 202, Jamaica, NY 11434, Officer: Alex Yeh, President (Qualifying Individual).

Ocean Freight Forwarder—Ocean Transportation Intermediary Applicants

WTO Express (U.S.A.), Corp., 20265 Valley Blvd, Ste. B, Walnut, CA 91789, Madison, NJ 07940-0880, Officer: Su Chin-Tien, President (Qualifying Individual).

D.A.T. International, Inc., 11512 W. 183rd Street, Unit SE, Orland Park, IL 60467, Officers: Joy M. Blanco, President, (Qualifying Individual) Donald A. Taylor, Vice President.

NUCO Logistics, Inc., One World Trade Center, Suite 1890, Long Beach, CA 90831, Officers: Wendy Gabbard, Secretary, (Qualifying Individual) Noushin G. Shamsili, President.

Genesis Forwarding Services IL, Inc., 2601 Greenleaf Ave., Elk Grove Village, IL 60007, Officer: Karen L. Sedor, Vice President (Qualifying Individual).

Freight Net Inc., 1N649 Bob-O-Link Drive, Winfield, IL 60190, Officers: Shelton G. Scott, III, President (Qualifying Individual), Lorena P. Scott, Secretary.

SBB Shipping USA Inc., 100 Plaza Drive, Ste. 102, Secaucus, NJ 07094, Officers: Daniel L. Vesque, Exec. Vice President (Qualifying Individual), Batuhan F. Cakmak, President.

Exodus and Zion, Corp. dba American Industries, Co., 6110 Westline Dr., Houston, TX 77036, Officers: Victor Byaly, Director (Qualifying Individual), Geraldina Paz, President.

MMI Logistics & Forwarding, LLC, 15201 East Frwy, Ste. 111, Channelview, TX 77530, Officers: Karen Crain, President (Qualifying Individual).

C. Steinweg (Houston), Inc., 1717 Turning Basin Drive, Ste. 430, Houston, TX 77029, Officers: Rupert Denney, Secretary (Qualifying Individual), Chris Jonker, President.

Roar Logistics, Inc., 2495 Main Street, Ste. 442, Buffalo, NY 14214, Officers: Joseph P. Reisdorf, Secretary (Qualifying Individual), William G. Gisel, Director.

Penbroke Marine Services Inc., 975 East Linden Avenue, Linden, NJ 07036, Officer: Brian J. Brennan, President (Qualifying Individual).

Dated: June 13, 2008.
Karen V. Gregory,
Assistant Secretary.

[FR Doc. E8-13783 Filed 6-17-08; 8:45 am]

BILLING CODE 6730-01-P